DEPARTMENT OF LABOR

Occupational Safety and Health Administration

[Docket No. OSHA-2022-0002]

National Advisory Committee on Occupational Safety and Health (NACOSH): Notice of Meeting

AGENCY: Occupational Safety and Health Administration (OSHA), Labor.

ACTION: Notice of NACOSH meeting.

SUMMARY: The National Advisory Committee on Occupational Safety and Health (NACOSH) will meet on September 13, 2022. In conjunction with the committee meeting, the NACOSH Heat Injury and Illness Prevention Work Group will meet separately on September 12, 2022.

DATES:

NACOSH Work Group meeting: The NACOSH Heat Injury and Illness Prevention Work Group (Heat Work Group) will meet from 1:00 p.m. to 2:00 p.m., ET, Monday, September 12, 2022.

NACOSH meeting: NACOSH will meet from 10:00 a.m. to 4:30 p.m., ET, Tuesday, September 13, 2022.

ADDRESSES:

Submission of comments and requests to speak: Submit comments and requests to speak at the NACOSH meeting by September 6, 2022, identified by the docket number for this Federal Register notice (Docket No. OSHA-2022-0002), using the following method:

Electronically: Comments and requests to speak, including attachments, must be submitted electronically at www.regulations.gov, the Federal eRulemaking Portal. Follow the online instructions for submitting comments.

Requests for special accommodations: Submit requests for special accommodations for this NACOSH meeting by September 6, 2022, to Ms. Carla Marcellus, Directorate of Standards and Guidance, OSHA, U.S. Department of Labor; telephone: (202) 693-1865; email: marcellus.carla@dol.gov.

Instructions: All submissions must include the agency name and the OSHA docket number for this Federal Register notice (Docket No. OSHA-2022-0002). OSHA will place comments and requests to speak, including personal information, in the public docket, which may be available online. Therefore, OSHA cautions interested parties about submitting personal information such as Social Security numbers and birthdates.

Docket: To read or download documents in the public docket for this NACOSH meeting, go to www.regulations.gov. All documents in the public docket are listed in the index; however, some documents (e.g., copyrighted material) are not publicly available to read or download through www.regulations.gov. All submissions, including copyrighted material, are available for inspection through the OSHA Docket Office. Contact the OSHA Docket Office at (202) 693-2350 (TTY (877) 889-5627) for assistance in locating docket submissions.

Participation in the NACOSH Heat Work Group meeting: Members of the public may attend the NACOSH Heat Work Group meeting. However, any participation by the public will be in listen-only mode. OSHA is not receiving public comments or requests to speak at the Heat Work Group meeting.

FOR FURTHER INFORMATION CONTACT:

For press inquiries: Mr. Frank Meilinger, Director, OSHA Office of Communications, U.S. Department of Labor; telephone: (202) 693-1999; email: meilinger.francis2@dol.gov.

For general information about NACOSH: Ms. Lisa Long, Acting Deputy Director, Directorate of Standards and Guidance, OSHA, U.S. Department of Labor; telephone: (202) 693-2409; email: long.lisa@dol.gov.

Telecommunication requirements: For additional information about the telecommunication requirements for the meeting, please contact Ms. Carla Marcellus, Directorate of Standards and Guidance, OSHA, U.S. Department of Labor; telephone: (202) 693-1865; email: marcellus.carla@dol.gov.

For copies of this Federal Register Notice: Electronic copies of this Federal Register notice are available at www.regulations.gov. This notice, as well as news releases and other relevant information, are also available at OSHA's web page at www.osha.gov.

SUPPLEMENTARY INFORMATION:

I. Background

NACOSH was established by Section 7(a) of the Occupational Safety and Health Act of 1970 (OSH Act) (29 U.S.C. 651, 656) to advise, consult with, and make recommendations to the Secretary of Labor and the Secretary of Health and Human Services on matters relating to the administration of the OSH Act. NACOSH is a continuing advisory committee of indefinite duration.

NACOSH operates in accordance with the Federal Advisory Committee Act (FACA) (5 U.S.C. App. 2), its implementing regulations (41 CFR part 102-3), and OSHA's regulations on NACOSH (29 CFR 1912.5 and 29 CFR part 1912a).

The establishment of subcommittees and subgroups, such as the NACOSH Heat Work Group, is contemplated by both the FACA's implementing regulations and OSHA's regulations on NACOSH (see, e.g., 41 CFR 102-3.135; 29 CFR 1912a.13). The Heat Work Group will operate in accordance with the FACA and these regulations.

II. Meeting Information

NACOSH Meeting

NACOSH will meet from 10:00 a.m. to 4:30 p.m., ET, Tuesday, September 13, 2022. The meeting is open to the public.

Meeting agenda: The tentative agenda for this meeting includes:

• Updates from NIOSH, OSHA's Directorate of Standards and Guidance

• Safety and Health Management Systems and establishing safety as a core value;

• Special emphasis groups;

• OSHA's Whistleblower Protection Program; and

• Report from NACOSH Heat Work Group.

NACOSH Workgroup Meetings

In conjunction with the NACOSH meeting, the NACOSH Heat Illness and Injury Prevention Work Group (Heat Work Group) will meet from 1:00 p.m. to 2:00 p.m., ET on September 12, 2022.

Public attendance at the NACOSH Committee and Workgroup meetings will be virtual only. Meeting information will be posted in the Docket (Docket No. OSHA-2022-0002) and on the NACOSH web page, https://www.osha.gov/advisorycommittee/nacosh, prior to the meeting.

Authority and Signature

James S. Frederick, Deputy Assistant Secretary of Labor for Occupational Safety and Health, authorized the preparation of this notice under the authority granted by 29 U.S.C. 655(b)(1) and 656(b), 5 U.S.C. App. 2, 29 CFR parts 1912 and 1912a, and Secretary of Labor's Order No. 8-2020 (85 FR 58393).

Signed at Washington, DC.
James S. Frederick,
Deputy Assistant Secretary for Occupational Safety and Health.

[FR Doc. 2022-17121 Filed 8-9-22; 8:45 am]

BILLING CODE 4510-26-P